DEPARTMENT OF ENERGY

Supplemental Environmental Impact Statement for Disposal of Immobilized Low-Activity Wastes From Hanford Tank Waste Processing

AGENCY: Department of Energy.

ACTION: Notice of intent.

SUMMARY: The U.S. Department of Energy (DOE) announces its intent to prepare a supplemental environmental impact statement (Supplemental EIS) to the Tank Waste Remediation System, Hanford Site, Richland, Washington, Final Environmental Impact Statement (TWRS EIS, DOE/EIS-0189, August 1996). The TWRS EIS evaluated alternatives for the disposal of mixed, radioactive, and hazardous waste stored or projected to be stored in 177 underground storage tanks and approximately 60 active and inactive miscellaneous underground storage tanks associated with the Hanford Site's tank farm operations. The TWRS EIS also evaluated alternatives for the management and disposal of approximately 1,930 cesium and strontium capsules stored at the Hanford Site. This EIS included analyses of on-site disposal of immobilized (vitrified) low-activity waste resulting from chemical separation of the Hanford tank wastes. In its Record of Decision (62 FR 8693, February 1997), DOE decided on the Phased Implementation Alternative, to chemically separate and vitrify high-level and low-activity wastes retrieved from the tanks. In Phase I, the immobilized low-activity waste would be placed in near-surface, retrievable disposal vaults on-site. DOE is now reconsidering the type of disposal facility for the immobilized low-activity waste, the location of this disposal facility on the Site, and the physical form of the vitrified low-activity waste product. Accordingly, DOE invites public comment on the scope of the Supplemental EIS that would evaluate potential changes in the Department's plans.

DATES: The public scoping period begins with the publication of this Notice and extends through August 26, 2002. DOE invites all interested parties to submit written comments or suggestions during the scoping period. Written comments must be postmarked by August 26, 2002 and submitted to the DOE document manager (see ADDRESSES below). Comments postmarked after that date will be considered to the extent practicable.

Oral and written comments will be received at a public scoping meeting to be held on the date and at the location given below: Richland, Washington, August 20, 2002, 6:00 pm to 8:00 pm Red Lion Hanford House, Benton-Franklin Room, 802 George Washington Way, Richland, WA 99352.

For further information, see Public Scoping Meetings under SUPPLEMENTARY INFORMATION below.

ADDRESSES: Address comments on the scope of the Supplemental EIS to the DOE Document Manager: Ms. Gae M. Neath, U.S. Department of Energy, Post Office Box 450, Mail Stop H6-60, Richland, WA 99352, Electronic Mail: Gae_M_Neath@rl.gov, Telephone: (509) 376-7828.

FOR FURTHER INFORMATION CONTACT: For information regarding the TWRS EIS or the Supplemental EIS, contact Ms. Neath as described above. For information on DOE's National Environmental Policy Act (NEPA) process, contact: Ms. Carol M. Borgstrom, Director, Office of NEPA Policy and Compliance (EH-42), U.S. Department of Energy, 1000 Independence Avenue, SW., Washington, DC 20585, Telephone: 202-586-4600, Facsimile: (202) 586-7031, or leave a message at 1-800-472-2756 (toll free).

SUPPLEMENTARY INFORMATION: The Federal government established the Hanford Site, near Richland, Washington, in 1943, to produce plutonium for national defense as part of the Manhattan Project. Metallic uranium fuel was irradiated in nuclear reactors, and then the fuel was chemically processed to recover plutonium. Plutonium production at the Hanford Site stopped in 1988.

Tank Wastes at the Hanford Site

Processing reactor fuel and related activities at the Hanford Site created a wide variety of radioactive wastes that have been stored in 177 underground tanks. Typically, the tank wastes are highly radioactive and mixed with hazardous waste.

There are 149 single-shell tanks storing about 125.7 million liters (ML) (33.2 million gallons (Mgal)) of waste at the Hanford Site. Single shell tanks have one steel wall, surrounded by reinforced concrete; they were constructed between 1944 and 1964 with a design life of 20 to 30 years. The single-shell tanks received waste from chemical processing until 1980. The capacity of most single-shell tanks is 1.9 ML to 3.8 ML (0.5 Mgal to 1.0 Mgal). The tanks are located under ground and are covered with 1.8 to 3 meters (6 to 10 feet) of earth. These tanks contain radioactive liquids, saltcake, and sludge. About half of the single-shell tanks have leaked or are assumed to have leaked. Approximately 3.9 ML (1.0 Mgal) of waste has leaked or spilled into the nearby soil. Over the years, much of the liquid stored in single-shell tanks has been evaporated or pumped to double-shell tanks as part of DOE's Interim Tank Stabilization Program to prevent further leakage.

There are twenty-eight 3.9 ML (1.0 Mgal) double-shell tanks at Hanford. The double-shell tanks were constructed between 1970 and 1986. Most of these tanks are designed for up to 50 years of storage. They are similar to the single-shell tanks, but double-shell tanks have a second steel containment wall. The space between the two walls is monitored for leaks, and none of the double-shell tanks has been known to leak. The double-shell tanks are used to treat and store a variety of liquid radioactive wastes from the single-shell tanks and from various Hanford Site processes. The double-shell tanks now contain about 79.5 ML (21.0 Mgal) of waste.

Tank Waste Remediation System Environmental Impact Statement

The TWRS EIS addressed the management, treatment, storage, and disposal of the waste currently stored in the existing tanks and other wastes that may be generated during future decontamination and decommissioning activities at Hanford. The scope of the EIS included safe operations, waste retrieval, and treatment and disposal of tank waste. The EIS also addressed the management of approximately 1930 radioactive cesium and strontium capsules. The EIS evaluated 10 tank waste alternatives and 4 alternatives for managing the cesium and strontium capsules. The tank waste alternatives included a No Action Alternative and a range of action alternatives that involved varying degrees of tank waste retrieval and chemical separation of high-level and low-activity wastes. In all of the alternatives involving chemical separation of tank wastes, the high-level waste would be vitrified and stored until it could be shipped to a potential geologic repository. The low-activity waste would be immobilized and placed into near-surface concrete (grout) vaults on site.

The TWRS EIS Record of Decision (TWRS ROD) selected the Department's Preferred Alternative, the Phased Implementation Alternative, and deferred a decision on the cesium and strontium capsules. During Phase I (demonstration phase) of the Phased Implementation Alternative, DOE would retrieve a portion of the waste from the tanks and chemically separate the low-activity and high-level wastes. Demonstration-scale waste treatment facilities would be designed, constructed, and operated to immobilize tank waste. DOE also decided that immobilized low-activity waste would be prepared for future on site disposal in existing grout vaults. The phased approach would allow DOE to use the lessons learned from the demonstration phase to improve the design, construction, and operations of full-scale facilities constructed during Phase II.

In accordance with the TWRS ROD, DOE has continued to evaluate new information pertinent to Hanford tank waste remediation and is now reconsidering aspects of Phase I implementation for low-activity waste. Specifically, DOE is now considering a different type of disposal facility, a different on-site disposal location, and a different physical form of the vitrified low-activity waste product than were originally analyzed in the TWRS EIS. Accordingly, DOE has decided to prepare a Supplemental EIS.

Proposed Action

DOE proposes to dispose of immobilized low-activity waste generated from the retrieval and treatment of tank wastes at the Hanford Site in near-surface trenches located in the 200 East Area of the Hanford Site. This proposal represents a change in DOE's decision in the TWRS ROD to retrievably dispose of low-activity wastes in concrete vaults.

The proposed low-activity waste form also is different from the Phased Implementation Alternative, under which tank waste would be immobilized in vitrified cullet, produced by quenching the molten glass in water following vitrification, resulting in gravel-sized pieces of glass. DOE proposes instead to immobilize low-activity waste in monoliths, produced by casting the molten glass into a canister, resulting in a single encased piece of glass.

In accordance with the TWRS ROD, DOE will continue to evaluate new information relative to the tank waste remediation program. As this information becomes available, DOE may consider new treatment technologies and would conduct further NEPA review as appropriate.

Preliminary Alternatives

Disposal of Immobilized Low-Activity Waste in Near-Surface Engineered Systems (i.e., Trenches) in the 200 East Area of the Hanford Site

This alternative reflects current DOE planning for disposal of immobilized low-activity waste generated from tank waste retrieval and chemical separation. The immobilized low-activity waste would be placed in sealed containers, and disposed of in lined trenches with leachate collection systems in the 200 East Area of the Hanford Site. DOE will evaluate the impacts associated with the disposal of immobilized low-activity waste in trenches and closing and capping the trenches with a range of barriers.

Disposal of Immobilized Low-Activity Waste in Near-Surface Engineered Systems (i.e., Trenches) in the 200 West Area of the Hanford Site

Under this alternative, the immobilized low-activity waste would be placed in sealed containters and disposed of in lined trenches with leachate collection systems at a representative site in the 200 West Area of the Hanford Site. DOE will evaluate the impacts associated with the disposal of the low-activity waste in trenches and closing and capping the trenches with a range of barriers.

No Action Alternative

In the Supplemental EIS, the No Action Alternative will be the Phased Implementation Alternative selected in the TWRS EIS ROD. Under this alternative, DOE would implement its previous decision concerning immobilized low-activity waste: retrievable disposal of the low-activity waste in concrete vaults located at the Hanford Site. The analysis of this alternative would be updated with information that has become available since the TWRS EIS was published to ensure an appropriate comparison among alternatives.

Preliminary Issues Identified for Analysis

The following issues have been preliminarily identified for analysis in the Supplemental EIS. This list is presented to facilitate public comment on the scope of the Supplemental EIS and is not intended to be all-inclusive or to predetermine the potential impacts of any of the alternatives.

(1) Potential effects on the public and onsite workers from releases of radiological and nonradiological materials during normal operations and from reasonably forseeable accidents;

(2) Pollution prevention and waste minimization;

(3) Potential effects on air and water quality and other environmental consequences of normal operations and potential accidents;

(4) Potential cumulative effects of operations at the Hanford Site, including relevant impacts from past, present, and reasonably foreseeable activities at the Site;

(5) Potential effects on endangered species, floodplain/wetlands, archaeological/historical sites;

(6) Potential long-term effects on groundwater, surface water, and human health;

(7) Effects from normal transportation and postulated transportation accidents;

(8) Potential socioeconomic impacts on surrounding communities;

(9) Unavoidable adverse environmental effects;

(10) Short-term uses of the environment versus long-term productivity;

(11) Potential irretrievable and irreversible commitment of resources.

Cooperating Agency

The Hanford Communities, a Washington State intergovernmental group representing the local communities of Richland, West Richland, Kennewick, and Pasco, Benton County, and the Port of Benton, is a cooperating agency in the preparation of this Supplemental EIS.

Public Scoping Meeting

DOE invites the public to attend a scoping meeting at which comments may be presented on the scope of the Supplemental EIS. Oral and written comments will be considered equally in preparation of the Supplemental EIS. Oral and written comments will be received at the public scoping meeting as stated under DATES above.

DOE will begin the scoping meeting with a short presentation on the Supplemental EIS process, the proposed action, preliminary alternatives, and other related information. Individuals and organizations will then be invited to present comments. Requests to speak at the public meetings may be made by calling or writing to the DOE document manager (see ADDRESSES above). Registered speakers will be heard on a first-come, first-served basis. Requests to speak made at the meeting will be honored as time permits. Written comments will be accepted at the meeting. Speakers are encouraged to provide written versions of their oral comments for the record.

A moderator will conduct the meeting. DOE staff and the moderator may ask speakers clarifying questions. Individuals speaking on behalf of an organization must identify the organization. Each speaker will be allowed five minutes to present comments unless more time is available. Comments will be recorded by a court reporter and will become part of the scoping meeting record. A question and answer period will be held after speakers have had an opportunity to speak.

Related NEPA Documentation

Other NEPA documents that may be relevant to the Supplemental EIS include:

(1) Final Environmental Impact Statement for the Tank Waste Remediation System, Hanford Site, Richland, Washington, DOE/EIS-0189, U.S. Department of Energy, Washington, DC, 1996, Record of Decision issued February 1997, and Supplement Analyses 1 (June 1997), 2 (May 1998), and 3 (March 2001).

(2) Final Environmental Impact Statement for the Safe Interim Storage of Hanford Tank Wastes, Hanford Site, Richland, Washington, DOE/EIS-0212, 1995, Record of Decision issued November 1995, U.S. Department of Energy, Richland, Washington.

(3) Final Environmental Impact Statement for Disposal of Hanford Defense High-Level Transuranic and Tank Wastes, Hanford Site, Richland, Washington, DOE/EIS-0113, 1987, Record of Decision issued April 1988, U.S. Department of Energy, Washington, DC.

(4) Final Environmental Statement for Waste Management Operations, Hanford Reservation, Richland, Washington, ERDA-1538, 1975. U.S. Energy Research and Development Administration, Washington, DC.

(5) Final Environmental Impact Statement for Hanford Comprehensive Land Use Plan, Hanford Site, Richland, Washington, DOE/EIS-0222, 1999, Record of Decision issued November 1999, U.S. Department of Energy, Washington, DC.

(6) Waste Management Programmatic Environmental Impact Statement, DOE/EIS-0200, U.S. Department of Energy, Washington, DC, May 1997. DOE published Records of Decision: TRU Treatment January 1998; Hazardous Waste Treatment August 1998; High-Level Waste Storage August 1999; Low-Level and Mixed Low-Level Waste, February 2000.

(7) Draft Environmental Impact Statement for Hanford Site Solid (Radioactive and Hazardous) Waste Program, DOE/EIS-0286, April 2002, U.S. Department of Energy, Richland, Washington.

(8) Draft Environmental Impact Statement for Idaho High-Level Waste and Facilities Disposition, DOE/EIS-0287, January 2001, U.S. Department of Energy, Washington, DC.

(9) Draft SEPA Environmental Impact Statement for Commercial Low-Level Radioactive Waste Disposal Site (US Ecology) on the Hanford Site, August 2000, Washington Department of Ecology, Olympia, Washington.

(10) Environmental Assessments.

• Trench 33 Widening in 218-W-5 Low-Level Burial Ground, DOE/EA-1203, FONSI July 1997;

• Widening Trench 36 of the 218-E-12B Low-Level Burial Ground, DOE/EA-1276, FONSI February 1999;

• Use of Existing Borrow Areas, Hanford Site, Richland, Washington, DOE/EA-1403, FONSI October 2001;

• Transuranic Waste Retrieval from the 218-W-4B and 218-W-4C Low-Level Burial Grounds, Hanford Site, Richland, Washington, DOE/EA-1405, FONSI March 2002.

Issued in Washington, DC on June 28, 2002.
Beverly A. Cook,
Assistant Secretary, Office of Environment, Safety and Health.

[FR Doc. 02-16946 Filed 7-5-02; 8:45 am]

BILLING CODE 6450-01-P